NUCLEAR REGULATORY COMMISSION

Notice of Availability of Model Safety Evaluation and Model License Amendment Request on Technical Specification Improvement Regarding Use of the Improved Banked Position Withdrawal Sequence for General Electric Boiling Water Reactors Using the Consolidated Line Item Improvement Process; Correction

AGENCY: Nuclear Regulatory Commission.

ACTION: Notice of availability; Correction.

SUMMARY: This document corrects a notice appearing in the Federal Register Notice on May 23, 2007 (72 FR 29004). The notice makes a Model Safety Evaluation, Model License Amendment Request, and Model No Significant Hazards Determination available to licensees as a means to make changes to Standard Technical Specifications. This action is necessary to correct an erroneous “Action” item.

FOR FURTHER INFORMATION CONTACT: Matthew Hamm, Reactor Engineer, Office of Nuclear Reactor Regulation, telephone (301) 415-1472.

SUPPLEMENTARY INFORMATION: On page 29004, in the third column, the ACTION: item is changed from “Request for comment” to read “Notice of availability.”

Dated at Rockville, Maryland, this 23rd day of May, 2007.
For the Nuclear Regulatory Commission.
Timothy J. Kobetz,
Chief, Technical Specifications Branch, Division of Inspection and Regional Support, Office of Nuclear Reactor Regulation.

[FR Doc. E7-10355 Filed 5-29-07; 8:45 am]

BILLING CODE 7590-01-P